FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than December 9, 2024.

A. Federal Reserve Bank of Cleveland (Nadine M. Wallman, Vice President) 1455 East Sixth Street, Cleveland, Ohio 44101-2566. Comments can also be sent electronically to Comments.applications@clev.frb.org:

1. The Kathryn St. Clair Trust, under agreement dated January 26, 2024, as amended on June 20, 2024, Irvine, Kentucky, Jaclyn R. St. Clair Shoop, trustee, Lexington, Kentucky; to acquire voting shares of Citizens Guaranty Financial Corporation, Irvine, Kentucky, and thereby indirectly acquire voting shares of Citizens Guaranty Bank, Richmond, Kentucky.

B. Federal Reserve Bank of St. Louis (Holly A. Rieser, Senior Manager) P.O. Box 442, St. Louis, Missouri 63166-2034. Comments can also be sent electronically to Comments.applications@stls.frb.org:

1. The Dan Fleming Living Trust dated October 17, 1994, Daniel D. Fleming, trustee, Carlinville, Illinois; The William Revocable Trust dated December 30, 1993, William D. Fleming, trustee, The Andrew W. Fleming Trust U/A dated February 1, 2012, Andrew W. Fleming, trustee, Bailey D. Fleming Living Trust dated May 1, 2015, Bailey D. Fleming, trustee, The Jacob W. Fleming Trust dated July 4, 2008, Jacob W. Fleming, trustee, Andrew W. Fleming as custodian of Minor Child A, and Jacob W. Fleming as custodian of Minor Child B, Minor Child C, and Minor Child D, all of Litchfield, Illinois; The Eaden Fleming Trust dated February 1, 2018, Eaden Danae Nellyn Fleming, trustee, Mt. Olive, Illinois; and Fleming Financial, Inc., Litchfield, Illinois, Daniel D. Fleming, as president, and William D. Fleming, as secretary; as the Fleming Family Control Group, a group acting in concert, to retain voting shares of Country Bancorp, Inc., and thereby indirectly retain voting shares of Bank of Hillsboro, National Association, both of Hillsboro, Illinois.

C. Federal Reserve Bank of Dallas (Karen Smith, Assistant Vice President, Mergers & Acquisitions and Enforcement) 2200 North Pearl Street, Dallas, Texas 75201-2272. Comments can also be sent electronically to Comments.applications@dal.frb.org:

1. The ELM 2024 Gift Trust, Ross Rankin Moody, trustee, and the JDM 2024 Gift Trust, Ross Rankin Moody, trustee, all of Austin, Texas; to join the Moody Family Group, a group acting in concert, to acquire voting shares of Moody Bancshares, Inc., Galveston, Texas, which controls Moody Bank Holding Company, Inc., Reno, Nevada, and thereby indirectly acquire voting shares of Moody National Bank, Galveston, Texas.

Board of Governors of the Federal Reserve System.
Michele Taylor Fennell,
Associate Secretary of the Board.

[FR Doc. 2024-27444 Filed 11-21-24; 8:45 am]

BILLING CODE 6210-01-P